SMALL BUSINESS ADMINISTRATION

[Disaster Declaration #12495 and #12496]

Illinois Disaster Number IL-00029

AGENCY: U.S. Small Business Administration.

ACTION: Amendment 1.

SUMMARY: This is an amendment of the Presidential declaration of a major disaster for Public Assistance Only for the State of Illinois (FEMA-1960-DR), dated 03/17/2011.

Incident: Severe Winter Storm and Snowstorm.

Incident Period: 01/31/2011 through 02/03/2011.

Effective Date: 05/16/2011.

Physical Loan Application Deadline Date: 05/16/2011.

Economic Injury (EIDL) Loan Application Deadline Date: 12/19/2011.

ADDRESSES: Submit completed loan applications to: U.S. Small Business Administration, Processing and Disbursement Center, 14925 Kingsport Road Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for Private Non-Profit organizations in the State of ILLINOIS, dated 03/17/2011, is hereby amended to include the following areas as adversely affected by the disaster.

Primary Counties: Grundy, Livingston, Mclean, Sangamon, Stephenson.

All other information in the original declaration remains unchanged.

(Catalog of Federal Domestic Assistance Numbers 59002 and 59008)

Roger B. Garland,
Acting Associate Administrator for Disaster Assistance.

[FR Doc. 2011-12703 Filed 5-23-11; 8:45 am]

BILLING CODE 8025-01-P